DEPARTMENT OF THE INTERIOR

National Indian Gaming Commission

25 CFR Parts 502 and 546

Class II Definitions and Game Classification

AGENCY: National Indian Gaming Commission, Interior.

ACTION: Proposed rule; notice of availability.

SUMMARY: This notice announces the availability of two analytical reports commissioned by the National Indian Gaming Commission (NIGC) to analyze the economic impact of proposed class II game classification regulations as well as sets a deadline for comments on these reports. These two reports may be viewed and downloaded by visiting the NIGC Web site http://www.nigc.gov. Those individuals who are unable to view or download this Web site may contact Shawn Pensoneau at (202) 632-7003 to obtain a copy of the reports.

DATES: The deadline for comments on the economic impact reports is December 15, 2006.

FOR FURTHER INFORMATION CONTACT: Penny Coleman, Michael Gross or John Hay at 202/632-7003; fax 202/632-7066 (these are not toll-free numbers).

SUPPLEMENTARY INFORMATION: Congress established the National Indian Gaming Commission (NIGC or Commission) under the Indian Gaming Regulatory Act of 1988 (25 U.S.C. 2701 et seq.) (IGRA) to regulate gaming on Indian lands. On May 25, 2006, proposed Class II definitions and game classification standards were published in the Federal Register (71 FR 30232, 71 FR 30238).

Dated: November 6, 2006.
Philip N. Hogen,
Chairman, National Indian Gaming Commission.

[FR Doc. E6-19065 Filed 11-9-06; 8:45 am]

BILLING CODE 7565-01-P